ENVIRONMENTAL PROTECTION AGENCY

[FRL-6845-2]

Section 112(c)(6) Source Category List: Tire Production

AGENCY: Environmental Protection Agency (EPA).

ACTION: Notice.

SUMMARY: This notice announces EPA's finding that there are no hexachlorobenzene (HCB) emissions from tire production manufacturing. Tire production was listed in the Federal Register on April 10, 1998 (63 FR 17838) as a source category to be regulated to meet the requirements of Section 112(c)(6) of the Clean Air Act (CAA). The April 10 notice listed tire production as a major contributor of HCB emissions based on information available at that time. Our finding that there are no HCB emissions from tire production sources does not require EPA, pursuant to section 112(c)(6), to list other source categories that emit HCB. The national emission standards for hazardous air pollutants (NESHAP) for tire production (renamed rubber tire manufacturing) is being proposed in a separate Federal Register document, which addresses pollutants other than HCB.

ADDRESSES: Docket No. A-97-05 contains information relevant to this notice. You can read and copy it between 8 a.m. and 5:30 p.m., Monday through Friday (except for Federal holidays), at our Air and Radiation Docket and Information Center (6102), 401 M Street, SW., Washington, DC 2060; telephone (202) 260-7548. The docket office may charge a reasonable fee for copying.

FOR FURTHER INFORMATION CONTACT: Anthony Wayne, Policy, Planning and Standards Group, Emission Standards Division, (MD-13), U.S. Environmental Protection Agency, Research Triangle Park, North Carolina 27711; telephone number (919) 541-5439; facsimile number (919) 541-0942; electronic mail address “wayne.tony@epa.gov.”

SUPPLEMENTARY INFORMATION:

I. Purpose and Basis

This notice informs the public that we have evaluated additional information regarding the emission data provided in the April 10, 1998 Federal Register document (63 FR 17838) and have concluded that tire manufacturing sources emit no HCB.

A. Why Did We Look at HCB Emissions From Rubber Tire Manufacturing?

Section 112(c)(6) of the CAA lists seven specific hazardous air pollutants (HAP ¹) and directs EPA to identify sources emitting these HAP and to assure that 90 percent of the emissions of these HAP are subject to standards under section 112(d). The April 10, 1998 notice identified the sources and the contributions of these sources to emissions of the seven listed HAP. That notice included tire production as a source of HCB based on 1994 estimated emission factor information. Tire production was also identified as a source of polycyclic organic matter (POM). That notice also stated that the source category list would act as an impetus for us to perform further analyses on emissions and control methods for the listed source categories.

¹ The listed HAP are alkylated lead compounds, polycyclic organic matter, hexachlorobenzene, mercury, polychlorinated biphenyls, 2,3,7,8-tetrachlordibenzofurans, and 2,3,7,8-tetrachlordibenzo-p-dioxin.

B. How Was Tire Production Identified for the April 10, 1998 Section 112(c)(6) Listing?

Tire production was listed as a contributor to emissions of HCB based on industry test data generated in 1994 in developing emission factors for the industry to supplement exiting EPA stationary source emission factor information. Industry testing detected HCB in the air samples collected during one test of a rubber missing process for one specific natural rubber compound (Compound No. 3).

The detected level was below the lab quantitation limit of the analysis techniques used at that time. The result, however, was reported as an “estimate” to the public. Additionally, the estimated value was used to supplement the lack of tested air emissions for tire production processes other than rubber mixing and thus was extrapolated to estimate HCB emissions for the tire manufacturing processes of calendaring and extruding.

In developing the HCB emissions inventory estimate for tire manufacturing in the April 10, 1998 document, we used the estimated emission factor developed from the emissions tests of rubber Compound No. 3 mixing. To calculate total HCB emissions from the tire manufacturing source category, we applied this emission factor to all rubber mixing, as well as calendaring and extruding processes. As a result, in that notice, we listed the annual HCB emissions from the tire manufacturing source category as 0.435 tons per year (Table 1 of that document). This level of emissions was approximately 29.5 percent of the total HCB emissions contribution by the three source categories listed as contributing 100 percent of the HCB emissions (Table 2 of that document).

C. What Were Some of the Concerns With the HCB Emissions Estimate Presented for Tire Production?

The Rubber Manufacturers Association (RMA) claimed that HCB is not emitted from tire manufacturing sources and that the emission factor data relied upon by EPA in the April 10, 1998 listing were inaccurate.

During development of the proposed rubber tire manufacturing NESHAP, the RMA questioned the presence and amount of HCB associated with tire manufacturing. They claimed that there is no reason to expect HCB to occur from tire manufacturing. They raised questions concerning the validity of the earlier testing results for mixing rubber Compound No. 3. Specifically, they stated that the original laboratory analysis that identified HCB may have been contaminated by an artifact of thermal degradation of the absorbent resin sampling medium used in the original testing.

The RMA also claimed that even if HCB is present in emissions from some mixing processes, EPA's calculation of total HCB emissions from the source category were overestimated. They provided revised calculation assumptions and procedures for determining the total amount of HCB emitted.

D. What Did We Learn During the Review of HCB Emissions From Tire Manufacturing and Subsequent Emission Testing?

To address the questions concerning the validity of the 1994 testing data, the RMA, in the interest of its member tire manufacturers, offered to retest the emissions from mixing processes using rubber Compound No. 3. The RMA proposed to conduct a test of a larger rubber compound mixer and a larger batch of the original compound formulation under conditions very similar to those used in the testing conducted in 1994. The RMA then developed the testing protocol for our review, conducted the test under our observation, and submitted the findings of the tests for our review and discussion. We found the test protocol and the manner in which the test was conducted to be acceptable for the purpose of determining the presence of HCB. The test was also structured to determine the quantity of HCB in the event that HCB was detected. The analytical procedure had a lab quantitation limit which was an order of magnitude better than the limit for the procedure used in 1994.

The new testing and analysis of air samples have indicated to our satisfaction that HCB is not present in the compounding of rubber as previously reported. The data showed that HCB is not emitted from rubber Compound No. 3 (the original and only suspect compound). As a result of this new test information, the improved method quantitation limit, and the probable contamination of the original sample, we have concluded that the previous rubber compound mixing test results should be rejected. In addition, the emission factors (estimated based on the mixing test of 1994) for tire calendaring and extruding processes are invalid since these were extrapolated from the 1994 mixing test data.

Today's document only changes our findings with respect to HCB emissions from tire manufacturing sources as identified in Table 1 of the April 10, 1998 notice, and their percent contribution as provided in Table 2 of the notice. We are notifying the public that the HCB emission information associated with the tire manufacturing source category, specifically the 0.435 tons per year, should be 0.0 tons per year. We are also advising the public that the two remaining source categories, chlorinated solvent production and pesticide manufacture, therefore, comprise 100 percent of the contribution of HCB.

II. Administrative Requirements

Today's document is not a rule, it imposes no regulatory requirements or costs on any sources, including small businesses. Therefore, the requirements of Executive Order 13045 (Protection of Children from Environmental Health Risk and Safety Risks), Executive Order 13084 (Consultation and Coordination with Indian Tribal Governments), Executive Order 13132 (Federalism), the Regulatory Flexibility Act, the National Technology Transfer and Advancement Act, and the Unfunded Mandates Reform Act do not apply to today's notice. Also, this notice does not contain any information collection requirements and, therefore, is not subject to the Paperwork Reduction Act, 44 U.S.C. 3501 et seq.

Under Executive Order 12866 (58 FR 51735), October 4, 1993), the Agency must determine whether a regulatory action is “significant” and therefore subject to OMB review and the requirements of the Executive Order. The Order defines “significant” regulatory action as one that is likely to result in a rule that may either:

(1) Have an annual effect on the economy of $100 million or more or adversely affect in a material way the economy, a sector of the economy, productivity, competition, jobs, the environment, public health or safety, or State, local, or tribal governments or communities;

(2) Create a serious inconsistency or otherwise interfere with an action taken or planned by another agency;

(3) Materially alter the budgetary impact of entitlements, grants, user fees, or loan programs, or the rights and obligation of recipients thereof; or

(4) Raise novel legal or policy issues arising out of legal mandates, the President's priorities, or the principles set forth in the Executive Order.

It has been determined that this regulatory action is not a “significant regulatory action” under the terms of Executive Order 12866 and is therefore not subject to OMB review.

Dated: July 27, 2000.
Robert Perciasepe,
Assistant Administrator for the Office of Air and Radiation.

[FR Doc. 00-19680 Filed 8-2-00; 8:45 am]

BILLING CODE 6560-50-M